DEPARTMENT OF TRANSPORTATION

Federal Aviation Administration

14 CFR Part 71

[Docket No. FAA-2022-1614; Airspace Docket No. 22-ASO-28]

RIN 2120-AA66

Amendment of Class D and E Airspace; Macon, GA

AGENCY: Federal Aviation Administration (FAA), DOT.

ACTION: Final rule.

SUMMARY: This action amends Class D airspace, Class E surface airspace, and Class E airspace extending upward from 700 feet above the surface at Middle Georgia Regional Airport, Macon, GA, as a result of the biennial airspace evaluation. This action extends the Class D airspace and Class E surface airspace for the airport and reduces Class E airspace upward from 700 feet above the surface surrounding Middle Georgia Regional and Macon Downtown Airports. The extension of Class D and Class E surface airspace at Middle Georgia Regional Airport will not impact the Class D or Class E surface airspace boundaries of Robins AFB.

DATES: Effective date 0901 UTC, June 15, 2023. The Director of the Federal Register approves this incorporation by reference action under 1 CFR part 51, subject to the annual revision of FAA Order JO 7400.11 and publication of conforming amendments.

ADDRESSES: A copy of the NPRM, all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jennifer Ledford, Operations Support Group, Eastern Service Center, Federal Aviation Administration, 1701 Columbia Avenue, College Park, GA 30337; Telephone: (404) 305-5946.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it as it amends airspace for Middle Georgia Regional Airport, Macon, GA, to support IFR operations in the area.

History

The FAA published a notice of proposed rulemaking for Docket No. FAA 2022-1614 in the Federal Register (87 FR 78885; December 23, 2022), amending Class D airspace, Class E surface airspace, and Class E airspace extending upward from 700 feet above the surface at Middle Georgia Regional Airport, Macon, GA.

Differences From the NPRM

Subsequent to the publication of the Notice of Proposed Rulemaking, the FAA found the Macon Class D and Class E2 language incorrectly described the southwest point of intersection between the Middle Georgia Regional 4.9-mile radius, the Robins AFB 5.5-mile radius, and the Middle Georgia Regional 210 degree bearing. These three points do not converge together and are in excess of 300 feet. There was a similar discrepancy found for the northeast point of intersection. The three references do not converge together on the 65-degree bearing, where it intersects the Robins AFB 5.5-mile radius and the Middle Georgia 4.9-mile radius. This action updates the Macon Class D and Class E2 descriptions with the appropriate language.

Incorporation by Reference

Class D and E airspace designations are published in paragraphs 5000, 6002, and 6005 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending Class D airspace for Middle Georgia Regional Airport by extending the airspace from a 4.1-mile radius to a 4.9-mile radius surrounding the airport. Class E surface airspace for Middle Georgia Regional Airport is amended by extending the airspace from a 4.1-mile radius to a 4.9-mile radius surrounding the airport. The Class E airspace extending upward from 700 feet above the surface is amended to within a 7.4-mile radius of Middle Georgia Regional Airport (reduced from a 7.8-mile radius). The Class E airspace extending upward from 700 feet above the surface is amended to within a 7.5-mile radius of Macon Downtown Airport (reduced from an 8.8-mile radius).

In addition, this action replaces the outdated terms Airport/Facility Directory with the term Chart Supplement and Notice to Airmen with the term Notice to Air Missions in the airspace descriptions.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

ASO GA D Macon, GA [Amended]

Middle Georgia Regional Airport, Macon, GA

(Lat 32°41′34″ N, long 83°38′57″ W)

Robins AFB

(Lat 32°38′25″ N, long 83°35′31″ W)

That airspace extending upward from the surface to and including 2,900 feet MSL within a 4.9-mile radius of Middle Georgia Regional Airport, excluding the portion within the 5.5-mile radius of Robins AFB Airport that lies south of a line connecting the two points of intersection of the 5.5-mile radius circle centered on the Robins AFB Airport and the 4.1-mile radius of Middle Georgia Regional Airport. This Class D airspace area is effective during the specific dates and times established in advance by a Notice to Air Missions. The effective date and time will thereafter be continuously published in the Chart Supplement.

Paragraph 6002 Class E Surface Airspace.

* * * * *

ASO GA E2 Macon, GA [Amended]

Middle Georgia Regional Airport, Macon, GA

(Lat 32°41′34″ N, long 83°38′57″ W)

Robins AFB

(Lat 32°38′25″ N, long 83°35′31″W)

That airspace extending upward from the surface within a 4.9-mile radius of Middle Georgia Regional Airport, excluding the portion within the 5.5-mile radius of Robins AFB Airport that lies south of a line connecting the two points of intersection of the 5.5-mile radius circle centered on the Robins AFB Airport and the 4.1-mile radius of Middle Georgia Regional Airport. This Class D airspace area is effective during the specific dates and times established in advance by a Notice to Air Missions. The effective date and time will thereafter be continuously published in the Chart Supplement.

Paragraph 6005 Class E Airspace Areas Extending Upward From 700 Feet or More Above the Surface of the Earth.

* * * * *

ASO GA E5 Macon, GA [Amended]

Middle Georgia Regional Airport, GA

(Lat 32°41′34″ N, long 83°38′57″ W)

Macon Downtown Airport

(Lat 32°49′18″ N, long 83°33′43″ W)

Robins AFB

(Lat 32°38′25″ N, long 83°35′31″ W)

Perry-Houston County Airport

(Lat 32°30′38″ N, long 83°46′02″ W)

That airspace extending upward from 700 feet above the surface within a 7.4-mile radius of Middle Georgia Regional Airport, and within a 7.5-mile radius of Macon Downtown Airport, a 7-mile radius of Robins AFB, and a 9.8-mile radius of Perry-Houston County Airport.

Issued in College Park, GA, on March 22, 2023.
Andreese C. Davis,
Manager, Airspace & Procedures Team South, Eastern Service Center, Air Traffic Organization.

[FR Doc. 2023-06324 Filed 3-28-23; 8:45 am]

BILLING CODE 4910-13-P